NATIONAL LABOR RELATIONS BOARD

Sunshine Act Meetings: September 2012

TIME AND DATES: All meetings are held at 2:30 p.m.:

Tuesday, September 4;

Wednesday, September 5;

Thursday, September 6;

Tuesday, September 11;

Wednesday, September 12;

Thursday, September 13;

Tuesday, September 18;

Wednesday, September 19;

Thursday, September 20;

Tuesday, September 25;

Wednesday, September 26;

Thursday, September 27.

PLACE: Board Agenda Room, No. 11820, 1099 14th St. NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, (202) 273-1067.

Dated: August 28, 2012.
Lester A. Heltzer,
Executive Secretary.

[FR Doc. 2012-21580 Filed 8-28-12; 4:15 pm]

BILLING CODE 7545-01-P